ENVIRONMENTAL PROTECTION AGENCY

[FRL-FRL-7497-1]

Government-Owned Invention: Available for Licensing

AGENCY: Environmental Protection Agency.

ACTION: Notice of availability of invention for licensing.

SUMMARY: The invention named below is owned by the U.S. Government and is available for licensing in the United States in accordance with 35 U.S.C. 207 and 37 CFR Part 404. Pursuant to 37 CFR 404.7, beginning three months after the date of this notice the Government may grant exclusive or partially exclusive licenses on the invention.

Copies of the patent application and 37 CFR Part 404 can be obtained from Laura Scalise, Patent Attorney, U.S. Environmental Protection Agency (EPA) at the address indicated below. Requests for copies of the patent application must include the patent application serial number listed in this notice. Requesters of the patent application will be asked to sign a Confidentiality Agreement before the application is mailed.

A party that is interested in obtaining a license must apply to EPA at the contact address below. The license application must contain the information set forth in 37 CFR 404.8, including the license applicant's plan for development or marketing of the invention.

Prior to granting an exclusive or partially exclusive license on this invention, EPA, pursuant to 37 CFR 404.7, will publish in the Federal Register an additional notice identifying the specific invention and the prospective licensee.

FOR FURTHER INFORMATION CONTACT: Laura Scalise, Patent Attorney, Office of General Counsel (2377), Environmental Protection Agency, Washington, DC 20460, telephone (202) 564-8303.

Patent Application

U.S. Patent Application No. 09/866,793: METHODS FOR ISOLATING AND USING FUNGAL HEMOLYSINS; filed May 30, 2001.

Dated: May 6, 2003.
Marla E. Diamond,
Associate General Counsel.

[FR Doc. 03-11757 Filed 5-9-03; 8:45 am]

BILLING CODE 6560-50-P